DEPARTMENT OF VETERANS AFFAIRS

Advisory Committee on Women Veterans, Notice of Meeting

The Department of Veterans Affairs (VA) gives notice under the Federal Advisory Committee Act, 5 U.S.C. App. 2., that the Advisory Committee on Women Veterans will meet on April 9-11, 2013, in the G. V. “Sonny” Montgomery Conference Center, room 230, at VA Central Office, 810 Vermont Avenue NW, Washington, DC, from 8:30 until 4:30 p.m. each day. The meeting is open to the public.

The purpose of the Committee is to advise the Secretary of Veterans Affairs regarding the needs of women Veterans with respect to health care, rehabilitation, compensation, outreach, and other programs and activities administered by VA designed to meet such needs. The Committee makes recommendations to the Secretary regarding such programs and activities.

The agenda will include updates from the Veterans Health Administration, the Veterans Benefits Administration, and the National Cemetery Administration and staff offices, as well as updates on recommendations from the 2012 Report of the Advisory Committee on Women Veterans.

No time will be allocated at this meeting for receiving oral presentations from the public. Interested parties should provide written comments for review by the Committee to Ms. Shannon L. Middleton, VA, Center for Women Veterans (00W), 810 Vermont Avenue NW, Washington, DC 20420, or email at 00W@mail.va.gov, or fax to (202) 273-7092. Individuals who wish to attend the meeting or want additional information should contact Ms. Middleton at (202) 461-6193.

Dated: March 21, 2013.
By Direction of the Secretary.
Vivian Drake,
Committee Management Officer.

[FR Doc. 2013-06979 Filed 3-26-13; 8:45 am]

BILLING CODE P